SMALL BUSINESS ADMINISTRATION

Regulatory Fairness Hearing; U.S. Small Business Administration; Region X—Spokane, Washington

AGENCY: U.S. Small Business Administration (SBA).

ACTION: Notice of open hearing of Region X Small Business Owners in Spokane, WA.

SUMMARY: The SBA, Office of the National Ombudsman is issuing this notice to announce the location, date and time of the Spokane, WA Regulatory Fairness Hearing. This hearing is open to the public.

DATES: The hearing will be held on Thursday, May 7, 2015, from 1:00 p.m. to 4:30 p.m. (PDT).

ADDRESSES: The hearing will be at The Historic Davenport Hotel, 10 South Post Street, Elizabethan Room, Spokane, WA 99201.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Spokane, WA hearing must contact José Méndez by May 1, 2015 in writing, or by fax or email in order to be placed on the agenda. For further information, please contact José Méndez, Case Management Specialist, Office of the National Ombudsman, 409 3rd Street SW., Suite 7125, Washington, DC 20416, by phone (202) 205-6178 and fax (202) 481-5719. Additionally, if you need accommodations because of a disability, translation services, or require additional information, please contact José Méndez as well.

For more information on the Office of the National Ombudsman, see our Web site at www.sba.gov/ombudsman.

Dated: April 14, 2015.
Miguel J. L'Heureux,
SBA Committee Management Officer.

[FR Doc. 2015-09295 Filed 4-21-15; 8:45 am]

BILLING CODE P